DEPARTMENT OF STATE

[Public Notice: 7417]

Meetings of The United States-Peru Environmental Affairs Council, Environmental Cooperation Commission and Sub-Committee on Forest Sector Governance

ACTION: Notice of meetings of the United States-Peru Environmental Affairs Council, Environmental Cooperation Commission and Sub-Committee on Forest Sector Governance, and request for comments.

SUMMARY: The Department of State and the Office of the United States Trade Representative (USTR) are providing notice that the United States and Peru intend to hold the third meeting of the Sub-Committee on Forest Sector Governance (the “Sub-Committee”) and the second meeting of the Environmental Affairs Council (the “Council”) on April 27, 2011, and the first meeting of the Environmental Cooperation Commission (the “Commission”) on April 28, 2011. Public information sessions for the Council, Commission and Sub-Committee also will be held on April 28th at 3 p.m. at 1724 F St., NW., Washington, DC.

The purpose of the meetings is to review implementation of: Chapter 18 (Environment) of the United States-Peru Trade Promotion Agreement (PTPA); the PTPA Annex on Forest Sector Governance (Annex 18.3.4); the United States-Peru Environmental Cooperation Agreement (ECA); and the 2009-2010 Work Program under the ECA. Also, the Commission will formally define and adopt the 2011-2014 Work Program.

The Department of State and USTR invite interested organizations and members of the public to attend the public sessions and to submit written comments or suggestions regarding implementation of Chapter 18, Annex 18.3.4, the ECA, and the 2009-2010 and 2011-2014 Work Programs, and any items that should be included on the meetings' agendas. If you would like to attend the public sessions, please send the following information to Tiffany Prather and Amy Karpel at the e-mail addresses or fax numbers listed below under the heading ADDRESSES: (1) Name, (2) date of birth, and (3) the identification number from any valid government-issued identification.

In preparing comments, submitters are encouraged to refer to:

• Chapter 18 of the PTPA, including Annex 18.3.4;

• The Final Environmental Review of the PTPA;

• The ECA; and

• The 2009-2010 Work Program.

These documents are available at: http://www.ustr.gov and http://www.state.gov/g/oes/env/trade/peru/index.htm.

DATES: The public sessions of the Council, Commission and Sub-Committee meetings will be held on April 28, 2011 at 3 p.m. at 1724 F St., NW., Washington, DC. Comments and suggestions are requested in writing no later than April 22, 2011.

ADDRESSES: Written comments and suggestions should be submitted to both:

(1) Tiffany Prather, Office of Environmental Policy, U.S. Department of State, by electronic mail at PratherTA@state.gov with the subject line “U.S.-Peru EAC/ECC/Sub-Committee Meetings” or by fax to (202) 647-5947; and

(2) Amy Karpel, Office of Environment and Natural Resources, Office of the United States Trade Representative, by electronic mail at Amy_Karpel@ustr.eop.gov with the subject line “U.S.-Peru EAC/ECC/Sub-Committee Meetings” or by fax to (202) 395-9517.

Persons with access to the Internet may also view and comment on this notice by going to the U.S. Government Regulations.gov Web site at http://www.regulations.gov/#!home.

FOR FURTHER INFORMATION CONTACT: Tiffany Prather, Telephone (202) 647-4548 or Amy Karpel, Telephone (202) 395-7320.

SUPPLEMENTARY INFORMATION: The PTPA entered into force on February 1, 2009. Article 18.6 of the PTPA establishes an Environmental Affairs Council, which is required to meet at least once a year or as otherwise agreed by the Parties to discuss the implementation of, and progress under, Chapter 18. Annex 18.3.4 of the PTPA establishes a Sub-Committee on Forest Sector Governance. The Sub-Committee is a specific forum for the Parties to exchange views and share information on any matter arising under the PTPA Annex on Forest Sector Governance. The ECA entered into force on August 23, 2009. Article III of the ECA establishes an Environmental Cooperation Commission and makes the Commission responsible for developing a Work Program. Chapter 18 of the PTPA and Article VI of the ECA require that meetings of the Council and Commission respectively include a public session, unless the Parties otherwise agree. At its first meeting, the Sub-Committee on Forest Sector Governance committed to hold a public session after each Sub-Committee meeting.

Dated: April 12, 2011.
Willem H. Brakel,
Office Director, Office of Environmental Policy, Department of State.

[FR Doc. 2011-9316 Filed 4-15-11; 8:45 am]

BILLING CODE 4710-09-P